DEPARTMENT OF HEALTH AND HUMAN SERVICES

Agency Information Collection Request; 30-Day Public Comment Request, Grants.gov

AGENCY: Office of the Secretary, HHS.

In compliance with the requirement of section 3506(c)(2)(A) of the Paperwork Reduction Act of 1995, the Office of the Secretary (OS), Department of Health and Human Services, is publishing the following summary of a proposed collection for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

To obtain copies of the supporting statement and any related forms for the proposed paperwork collections referenced above, e-mail your request, including your address, phone number, OMB number, and OS document identifier, to Sherette.funncoleman@hhs.gov , or call the Reports Clearance Office on (202) 690-6162. Written comments and recommendations for the proposed information collections must be received within 30 days of this notice directly to the OS OMB Desk Officer all comments must be faxed to OMB at 202-395-6974.

Proposed Project: SF-424 Mandatory—Revision-OMB No. 4040-0002-Grants.gov.

Abstract: This collection is the government-wide form used for mandatory grant programs.

Proposed revision to the form includes the addition of a data block that will collect the

• I11“Descriptive Title of Applicant's Project.” The data field labeled “County” will be revised to read “County/Parish.” The instructions are also being revised to incorporate the new descriptive title block and also, revisions to the instructions for areas affected by funding and the congressional district. Changes to the instructions will increase data quality and clarity for the collection.

Adding an additional data block is necessary to comply with the requirements of the Federal Funding Accountability and Transparency Act (FFATA). FFATA was signed into law on September 26, 2006 (Pub. L. 109-282). The legislation requires the Office of Management and Budget (OMB) to establish a publicly available, online database containing information about entities that are awarded federal grants, loans, and contracts. The revised form will assist agencies in collecting the required data elements for the database through the SF-424 applications. This form will be utilized on occasion by up to 26 Federal grant making agencies with mandatory grant programs. We are requesting a 2-year clearance of this form. The affected public includes, Federal, State, Local or Tribal governments, business or other for profit, and not for profit institutions.

Estimated Annualized Burden Table
Agency | Number of respondents | Number of responses per respondent | Average burden per response (in hours) | Total burden hours
DOL | 110 | 2.6 | 1 | 286
DOT | 50 | 1.1 | 1 | 55
DoED | 114 | 1 | 1 | 114
NEA | 65 | 1 | 32/60 | 35
USDA | 317 | 1 | 1 | 317
Total |  |  |  | 807

Terry Nicolosi,
Office of the Secretary, Paperwork Reduction Act Reports Clearance Officer.

[FR Doc. E8-10796 Filed 5-13-08; 8:45 am]

BILLING CODE 4151-AE-P